DEPARTMENT OF THE INTERIOR

National Park Service

[NPS-WASO-NAGPRA-NPS0036003; PPWOCRADN0-PCU00RP14.R50000]

Notice of Inventory Completion: University of Illinois Urbana-Champaign, Champaign, IL

AGENCY: National Park Service, Interior.

ACTION: Notice.

SUMMARY: In accordance with the Native American Graves Protection and Repatriation Act (NAGPRA), the University of Illinois Urbana-Champaign has completed an inventory of human remains and associated funerary objects and has determined that there is a cultural affiliation between the human remains and associated funerary objects and Indian Tribes or Native Hawaiian organizations in this notice. The human remains and associated funerary objects were removed from Stanley County, SD.

DATES: Repatriation of the human remains and associated funerary objects in this notice may occur on or after July 17, 2023.

ADDRESSES: Krystiana Krupa, University of Illinois Urbana-Champaign, 601 E. John Street, Champaign, IL 61820, telephone (217) 244-2587, email klkrupa@illinois.edu.

SUPPLEMENTARY INFORMATION: This notice is published as part of the National Park Service's administrative responsibilities under NAGPRA. The determinations in this notice are the sole responsibility of the University of Illinois Urbana-Champaign. The National Park Service is not responsible for the determinations in this notice. Additional information on the determinations in this notice, including the results of consultation, can be found in the inventory or related records held by the University of Illinois Urbana-Champaign.

Description

In 1927, human remains representing, at minimum, two individuals were removed from Stanley County, SD. Between 1918 and 1927, W.H. Over, then Director of the University of South Dakota Museum-Vermillion (now known as the W.H. Over Museum), excavated at Stony Point Village and its associated cemetery. During three visits to the site (in 1918, 1919, and 1927), Over collected human remains belonging to 23 individuals as well as the associated funerary objects. (Also, Over uncovered and reburied the human remains of three infants.)

According to a letter from Over dated May 4, 1927, the ancestral remains housed at the University of Illinois Urbana-Champaign are from his 1927 excavations. On August 31, 1927, Over mailed to Dr. Frank C. Baker (then Director of the University of Illinois Museum of Natural History) the human remains and associated funerary objects listed in this notice (the other human remains and funerary belongings were stored at the University of South Dakota-Vermillion). These human remains belong to an elderly adult and an infant. No known individuals were identified. The five associated funerary objects are one lot of glass beads, one brass tinkling cone, one bone awl or hair pin, one faunal bone, and one lot of antler tine tips.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical.

Determinations

Pursuant to NAGPRA and its implementing regulations, and after consultation with the appropriate Indian Tribes and Native Hawaiian organizations, the University of Illinois Urbana-Champaign has determined that:

• The human remains described in this notice represent the physical remains of two individuals of Native American ancestry.

• The five objects described in this notice are reasonably believed to have been placed with or near individual human remains at the time of death or later as part of the death rite or ceremony.

• There is a relationship of shared group identity that can be reasonably traced between the human remains and associated funerary objects described in this notice and the Three Affiliated Tribes of the Fort Berthold Reservation, North Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 17, 2023. If competing requests for repatriation are received, the University of Illinois Urbana-Champaign must determine the most appropriate requestor prior to repatriation. Requests for joint repatriation of the human remains and associated funerary objects are considered a single request and not competing requests. The University of Illinois Urbana-Champaign is responsible for sending a copy of this notice to the Indian Tribe identified in this notice.

Authority: Native American Graves Protection and Repatriation Act, 25 U.S.C. 3003, and the implementing regulations, 43 CFR 10.9, 10.10, and 10.14.

Dated: June 6, 2023.
Melanie O'Brien,
Manager, National NAGPRA Program.

[FR Doc. 2023-12856 Filed 6-15-23; 8:45 am]

BILLING CODE 4312-52-P